DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-first meeting:

Name: National Advisory Committee on Rural Health and Human Services.

Dates and Times: September 18, 2005, 1:30 p.m.-5:15 p.m.; September 19, 2005, 8 a.m.-5 p.m.; and September 20, 2005, 8:30 a.m.-10:30 a.m.

Place: Spring Creek Ranch, 1800 Spirit Dance Road, Jackson Hole, WY 83001, Phone: 307-733-8833.

Status: The meeting will be open to the public.

Purpose: The National Advisory Committee on Rural Health and Human Services provides advice and recommendations to the Secretary with respect to the delivery, research, development and administration of health and human services in rural areas.

Agenda: Sunday afternoon, September 18, at 1:30 p.m., the Chairperson, the Honorable David Beasley, will open the meeting and welcome the Committee. The Committee will hear a presentation on the State of Wyoming from Dr. Brent Sherard, Director of Wyoming Department of Health, and Dr. Robert Kelley, Dean of College of Health Sciences, University of Wyoming. Following this presentation will be a panel on pharmacy issues by representatives from the PharmAssist Program and the National Health Service Corps Loan Repayment Program for Pharmacists. The next presentation on Health Information Technology (HIT) will feature John Snow who will discuss the statewide HIT survey. The final session of the day will be a presentation on family caregiver support for rural elderly by Bev Morrow with the Department of Health, Aging Division. The Sunday meeting will close at 5:15 p.m.

Monday morning, September 19, at 8 a.m., the Committee will have an overview of the day's site visits and break into Subcommittees. The Family Caregiver Subcommittee will depart for Intermountain Healthcare in Afton, WY, at 8:45 a.m. The Pharmacy and HIT Subcommittees will depart for St. John's Medical Center in Jackson, WY, at 9 a.m. Transportation to these sites will not be provided to the public. The Subcommittees will reconvene at Spring Creek Ranch at 2 p.m. and break into subcommittee discussions. The Committee of the whole will reconvene at 4:30 p.m. for a brief discussion of the workplan. The Monday meeting will close at 5 p.m.

The final session will be convened Tuesday morning, September 20, at 8:30 a.m. The Committee will review the discussion of the 2006 Workplan and have updates on the Subcommittees site visits. The meeting will be adjourned at 10:30 a.m.

FOR FURTHER INFORMATION CONTACT: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: August 15, 2005.
Tina M. Cheatham,
Director, Division of Policy Review and Coordination.

[FR Doc. 05-16500 Filed 8-19-05; 8:45 am]

BILLING CODE 4165-15-P